DEPARTMENT OF HEALTH AND HUMAN SERVICES

Health Resources and Services Administration

Notice of Availability of Final Policy Guidance

AGENCY: Health Resources and Services Administration, HHS.

ACTION: Final Guidance.

DATES: The effective date of this final Agency guidance is January 5, 2009.

SUMMARY: HRSA has issued Policy Information Notice (PIN) 2009-04, “Revision to PIN 2003-21: Federally Qualified Health Center (FQHC) Look-Alike Guidelines and Application,” to announce a technical revision to PIN 2003-21: FQHC Look-Alike Guidelines and Application, issued on August 26, 2003. Both PINs are available on HRSA's Web site at http://bphc.hrsa.gov/policy/#lookalikes.

Background: HRSA has issued PIN 2009-04, “Revision to PIN 2003-21: FQHC Look-Alike Guidelines and Application,” to announce a technical revision to PIN 2003-21: FQHC Look-Alike Guidelines and Application, issued on August 26, 2003. PIN 2003-21 conveys eligibility and compliance requirements of the FQHC Look-Alike Program and instructions for submitting an application for FQHC Look-Alike designation, recertification, and change in scope of project. PIN 2009-04 updates the data submission requirements in PIN 2003-21. Applicants and existing FQHC Look-Alikes should refer to both PINs when preparing applications. Both PINs are available on HRSA's Web site at http://bphc.hrsa.gov/policy/#lookalikes.

PIN 2009-04 reflects the Office of Management and Budget (OMB) approved extension of information collection (control number 0915-0142) to November 30, 2011. Furthermore, the race and ethnicity data is now collected as two separate data elements in Table 2, Part B, to meet OMB Standards for the Classification of Federal Data on Race and Ethnicity as well as Standards for Maintaining, Collecting, and Presenting Federal Data on Race and Ethnicity (62 FR 36874-36946; 62 FR 58781-9; and OMB Bulletin #00-02). Please note that all information provided regarding race and/or ethnicity will be used only to ensure compliance with statutory and regulatory Governing Board requirements set forth in section 330 of the Public Health Service Act. Data on race and/or ethnicity collected on this form will not be used as a factor in recommending approval for FQHC Look-Alike designation, recertification, or change in scope of project.

PIN 2009-04 provides more detail regarding this modification as well as new Tables that must be included with all application submissions.

FOR FURTHER INFORMATION CONTACT: Please contact the Office of Policy and Program Development by telephone at 301-594-4300 for any questions regarding this PIN.

Dated: February 6, 2009.
Elizabeth M. Duke,
Administrator.

[FR Doc. E9-3088 Filed 2-12-09; 8:45 am]

BILLING CODE 4165-15-P